DEPARTMENT OF AGRICULTURE

Rural Utilities Service

Telecommunications Program: Notice of availability of a Finding of No Significant Impact

AGENCY: Rural Utilities Service, USDA.

ACTION: Notice of Availability of a Finding of No Significant Impact for a Programmatic Environmental Assessment of USDA Rural Utilities Service's Financial Support for Deployment of the Telecommunications Programs to Rural America.

SUMMARY: The Rural Utilities Service (RUS), an agency of the United States Department of Agriculture, has issued a Finding of No Significant Impact (FONSI) in association with the “Broadband Deployment to Rural America” Programmatic Environmental Assessment (PEA) published on March 1, 2016. The PEA provides a broad environmental analysis of the Agency's preliminary decisions and includes a tiered, site-specific analysis at the project level that would be completed before Agency dispersal of funds and/or applicant construction.

FOR FURTHER INFORMATION CONTACT: To obtain copies of the FONSI or PEA, or for further information, please contact: Ms. Lauren Rayburn, Environmental Scientist, Rural Utilities Service, 1400 Independence Ave. SW, Mail Stop 1571, Room 2240, Washington, DC 20250, phone: (202) 695-2540, or email: lauren.rayburn@wdc.usda.gov. Additional information about the Agency and its programs is available on the internet at http://www.rd.usda.gov/.

SUPPLEMENTARY INFORMATION: RUS issued a Programmatic Environmental Assessment (PEA) for the development of a more efficient and effective environmental review process for its Telecommunications Program on March 1, 2016. The PEA provides a broad environmental analysis of the Agency's preliminary decisions and includes a tiered, site-specific analysis at the project level that would be completed before Agency dispersal of funds and/or applicant construction. Since publication of the Agency's Environmental Policies and Procedures (7 CFR part 1970) on March 2, 2016, RUS has updated the PEA with citations to the Agency's new environmental rule. These changes were administrative and not substantive, therefore supplementation of the PEA is not required.

The RUS Telecommunications Program provides a variety of loans and grants to build and expand broadband networks in rural America. Loans to build broadband networks and deliver service to households and businesses in rural communities provide a necessary source of capital for rural telecommunications companies. Grant funding is awarded based on a number of factors relating to the benefits to be derived from the proposed broadband network project, as specified in applicable program regulations.

Eligible applicants for RUS loans and grants include for-profit and non-profit entities, tribes, municipalities, and cooperatives. The Agency particularly encourages investment in tribal and economically disadvantaged areas. Through low-cost funding for telecommunications infrastructure, rural residents can have access to services that will close the digital divide between rural and urban communities. Once funds are awarded, RUS monitors the projects to make sure they are completed in accordance with program conditions and requirements.

The application process for requesting financial assistance for the various Telecommunications programs varies slightly from a competitive grant program, individual project proposals, or multi-year “loan design” applications. The Agency seeks to synchronize and create environmental review efficiencies for future project-level environmental review compliance for the various programs, commensurate with the potential environmental impacts. The Agency also seeks to establish proper sequencing of certain agency preliminary decisions (i.e., obligation of funds and/or approval of interim financing requests) with subsequent tiered, site-specific project environmental reviews.

The PEA is intended to expedite the funding, deployment, and expansion of broadband infrastructure in rural America. The PEA includes detailed descriptions and analyses of the direct, indirect, and cumulative impacts associated with broadband infrastructure technologies and construction methods, such as impacts to water resources, terrestrial resources, historic and cultural resources, air and climate resources, noise, threatened and endangered species, electromagnetic radiation, and Environmental Justice issues. Use of the PEA analyses thereby saves project-level processing time, ensuring consistent and accurate environmental evaluations while avoiding unnecessary duplication and repetition in project-level planning and evaluation. Use of the PEA and its FONSI enables project-level compliance with NEPA, ESA, NHPA, and other requirements to focus on the remaining relevant site-specific issues, expediting planning, analysis, compliance, documentation, and ultimately project-level decisions.

Any final action by RUS related to the broadband portion of the RUS Telecommunications Program will be subject to, and contingent upon, compliance with all relevant presidential executive orders and federal, state, and local environmental laws and regulations in addition to the completion of the environmental review requirements as prescribed in the Agency's Environmental Policies and Procedures.

Based on its EA, RUS has determined that the issued FONSI fulfills its obligations under NEPA for Agency actions associated with financing through the following programs: Telecommunications Infrastructure Loan Program; Rural Broadband Access Loan and Loan Guarantee Program; Community Connect Grant Program; and Distance Learning and Telemedicine Grant Program. RUS is satisfied that the environmental consequences have been assessed and adequately addressed at a programmatic level. Accordingly, an Environmental Impact Statement will not be prepared.

Dated: September 11, 2018.
Christopher A. McLean,
Acting Administrator, Rural Utilities Service.

[FR Doc. 2018-20051 Filed 9-14-18; 8:45 am]

BILLING CODE 3410-15-P